DEPARTMENT OF ENERGY

Federal Energy Regulatory Commission

Combined Notice of Filings #1

March 7, 2006.

Take notice that the Commission received the following electric rate filings.

Docket Numbers: ER02-73-008.

Applicants: Llano Estacado Wind, L.P.

Description: Entergy Services, Inc., as agent for its affiliate Llano Estacado Wind, LP, submits its triennial updated market power analysis in support of its continued eligibility to sell electric capacity and energy at market-based rates.

Filed Date: February 28, 2006.

Accession Number: 20060303-0092.

Comment Date: 5 p.m. Eastern Time on Tuesday, March 21, 2006.

Docket Numbers: ER03-563-057; EL04-102-013.

Applicants: Power Marketing Inc.

Description: ISO New England, Inc., submits a revision to its Compliance Report filed February 28, 2006.

Filed Date: March 1, 2006.

Accession Number: 20060303-0188.

Comment Date: 5 p.m. Eastern Time on Wednesday, March 22, 2006.

Docket Numbers: ER04-691-065.

Applicants: Midwest Independent Transmission System Operator, Inc.,

Description: Midwest Independent Transmission System Operator, Inc., submits a redacted version of its Supplemental Information Filing, filed February 24, 2006.

Filed Date: March 1, 2006.

Accession Number: 20060307-0096.

Comment Date: 5 p.m. Eastern Time on Wednesday, March 22, 2006.

Docket Numbers: ER06-456-001.

Applicants: PJM Interconnection, L.L.C.

Description: PJM Interconnection, LLC submits an amendment to its January 5, 2006 filing to include cost allocations for 35 additional upgrades in Schedule 12-Appendix, to become effective on May 30, 2006.

Filed Date: March 1, 2006.

Accession Number: 20060303-0087.

Comment Date: 5 p.m. Eastern Time on Wednesday, March 22, 2006.

Docket Numbers: ER06-505-001.

Applicants: Entergy Services, Inc.,

Description: Entergy Services, Inc., on behalf of Entergy Arkansas, Inc., et al., submit a revision to its Compliance Filing filed on January 18, 2006.

Filed Date: February 28, 2006.

Accession Number: 20060303-0094.

Comment Date: 5 p.m. Eastern Time on Tuesday, March 10, 2006.

Docket Numbers: ER06-538-001.

Applicants: Llano Estacado Wind, LP.

Description: Llano Estacado Wind, LP submits amendments to its January 11, 2006 filing of its market-based rate tariff, designated as Original Sheets 1-4, FERC Electric Tarifff, First Revised Volume 1.

Filed Date: March 1, 2006.

Accession Number: 20060303-0091.

Comment Date: 5 p.m. Eastern Time on Wednesday, March 22, 2006.

Docket Numbers: ER06-686-000.

Applicants: DeGreeff DP, LLC.

Description: DeGreeff DP, LLC submits a petition for order accepting market-based rate tariff for filing and granting waivers and blanket approvals and request for expedited action.

Filed Date: March 1, 2006.

Accession Number: 20060303-0140.

Comment Date: 5 p.m. Eastern Time on Wednesday, March 22, 2006.

Docket Numbers: ER06-687-000.

Applicants: New England Power Pool.

Description: New England Power Pool Participants Committee submits its transmittal letter along with a counterpart signature page of the New England Power Pool Agreement.

Filed Date: March 1, 2006.

Accession Number: 20060303-0085.

Comment Date: 5 p.m. Eastern Time on Wednesday, March 22, 2006.

Docket Numbers: ER06-688-000.

Applicants: Hinson Power Company, LLC.

Description: Hinson Power Co., LLC submits its amendment to its Updated Market Power Analysis & Revisions to Second Revised Rate Schedule 1.

Filed Date: March 1, 2006.

Accession Number: 20060303-0086.

Comment Date: 5 p.m. Eastern Time on Wednesday, March 13, 2006.

Docket Numbers: ER06-689-000.

Applicants: Duke Energy Oakland, LLC.

Description: Duke Energy Oakland, LLC submits a correction to Original Sheet 142 from its Reliability Must Run Agreement with the California Independent System Operator Corp.

Filed Date: March 1, 2006.

Accession Number: 20060303-0143.

Comment Date: 5 p.m. Eastern Time on Wednesday, March 22, 2006.

Docket Numbers: ER06-691-000.

Applicants: PJM Interconnection, L.L.C.

Description: PJM Interconnection LLC submits an executed construction service agreement among PJM, Southeastern Chester County Refuse Authority and PECO Energy Company.

Filed Date: March 1, 2006.

Accession Number: 20060303-0090.

Comment Date: 5 p.m. Eastern Time on Wednesday, March 22, 2006.

Docket Numbers: ER06-692-000.

Applicants: Orange and Rockland Utilities, Inc.,

Description: Orange and Rockland Utilities submits a revised Power Supply Agreement with Pike County Light & Power Company, effective May 1, 2006.

Filed Date: March 1, 2006.

Accession Number: 20060306-0119.

Comment Date: 5 p.m. Eastern Time on Wednesday, March 22, 2006.

Docket Numbers: ER96-110-020; ER99-2774-012; ER03-956-009; ER03-185-007; ER03-17-007; ER01-545-009; ER00-1783-009; ER02-795-007; ER96-2504-014; ER05-1367-003; ER05-1368-003; ER05-1369-004; ER00-826-006; ER00-828-006; ER98-421-017; ER98-4055-014; ER01-1337-009; ER02-177-010; ER03-1212-008; ER01-1820-008.

Applicants: Duke Power, Division of Duke Energy Corp.; Duke Energy Trading and Marketing, L.L.C.; Duke Energy Marketing America, LLC, Duke Energy Fayette, LLC; Duke Energy Hanging Rock, LLC; Duke Energy Lee, LLC; Duke Energy Vermillion, LLC; Duke Energy Washington, LLC; Cincinnati Gas & Electric Co.; PSI Energy, Inc.; Union Light Heat & Power Company; Cinergy Marketing & Trading, LP; Brownsville Power I, L.L.C.; Caledonia Power I, L.L.C. CinCap IV, LLC; CinCap V, LLC; Cinergy Capital & Trading, Inc.; Cinergy Power Investments, Inc.; St. Paul Cogeneration, LLC; Cinergy Operating Companies.

Description: Duke Energy Corp., et al., on behalf of Duke Power Co, LLC et al submits a notice of change in status for each MBR Company with respect to each such MBR Co's Authority to engage in wholesale sales of capacity.

Filed Date: March 1, 2006.

Accession Number: 20060306-0067.

Comment Date: 5 p.m. Eastern Time on Wednesday, March 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-3590 Filed 3-13-06; 8:45 am]

BILLING CODE 6717-01-P